DEPARTMENT OF LABOR

Employment and Training Administration

[TA-W-57,007]

Ametek, U.S. Gauge Division; Sellersville, PA; Notice of Termination of Investigation

Pursuant to Section 221 of the Trade Act of 1974, as amended, an investigation was initiated on April 19, 2005 in response to a worker petition filed by a company official on behalf of workers at Ametek, U.S. Gauge Division, Sellersville, Pennsylvania.

The petitioner has requested that the petition be withdrawn. Consequently, the investigation has been terminated.

Signed at Washington, DC this 26th day of April 2005.
Elliott S. Kushner,
Certifying Officer, Division of Trade Adjustment Assistance.

[FR Doc. E5-2434 Filed 5-13-05; 8:45 am]

BILLING CODE 4510-30-P